DEPARTMENT OF TRANSPORTATION

Federal Aviation Administration

Eighteenth Meeting: RTCA Special Committee 213, Enhanced Flight Visions Systems/Synthetic Vision Systems (EFVS/SVS)

AGENCY: Federal Aviation Administration (FAA), U.S. Department of Transportation (DOT).

ACTION: Notice of meeting RTCA Special Committee 213, Enhanced Flight Visions Systems/Synthetic Vision Systems (EFVS/SVS).

SUMMARY: The FAA is issuing this notice to advise the public of the eighteenth meeting of RTCA Special Committee 213, Enhanced Flight Visions Systems/Synthetic Vision Systems (EFVS/SVS).

DATES: The meeting will be held April 17-19, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 213. The agenda will include the following:

April 17, 2012

• Introductions and administrative items

• Review and approve minutes from last full plenary meeting

• Review and approve updated terms of reference for submittal to PMC

• Review SVS/CVS (WG1) and Vision Systems (WG2) objectives

• Work Group 2 (VS) Discussion

April 18, 2012

• Work Group 2 (VS) Discussion

• Work Group 1 (SVS/CVS) break discussion out if needed

April 19, 2012

• Work Group 1 and 2 Update

• Administrative items (action item review and meeting schedule—July 17-19 DC, September/October Europe)

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 15, 2012.
John Raper,
Manager, Business Operations Branch, Federal Aviation Administration.

[FR Doc. 2012-6829 Filed 3-21-12; 8:45 am]

BILLING CODE 4910-13-P